DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda for the June 25-26, 2015 meeting of the National Advisory Committee on Institutional Quality and Integrity (NACIQI), and provides information to members of the public on submitting written comments and on requesting to make oral comments at the meeting. The notice of this meeting is required under Section 10(a)(2) of the Federal Advisory Committee Act (FACA) and Section 114(d)(1)(B) of the Higher Education Act (HEA) of 1965, as amended.

DATES: The NACIQI meeting will be held on June 25-26, 2015, from 8:00 a.m. to 5:30 p.m., at a location to be determined in the Washington DC area. The exact location of the meeting will be published in the Federal Register and on the Department Web site at http://www2.ed.gov/about/bdscomm/list/naciqi.html#meetings by May 25, 2015.

ADDRESSES: U.S. Department of Education, Office of Postsecondary Education, 1990 K Street NW., Room 8080, Washington, DC 20006.

FOR FURTHER INFORMATION CONTACT: Patricia Howes, Committee Coordinator, NACIQI, U.S. Department of Education, 1990 K Street NW., Room 8061, Washington, DC 20006-8129, telephone: (202) 502-7769, fax: (202) 502-7874, or email Patricia.Howes@ed.gov.

SUPPLEMENTARY INFORMATION:

NACIQI's Statutory Authority and Function: The NACIQI is established under Section 114 of the Higher Education Act of 1965, as amended (HEA), 20 U.S.C. 1011c. The NACIQI advises the Secretary of Education about:

• The establishment and enforcement of the criteria for recognition of accrediting agencies or associations under Subpart 2, Part H, Title IV of the HEA, as amended.

• The recognition of specific accrediting agencies or associations or a specific State public postsecondary vocational education or nurse education approval agency.

• The preparation and publication of the list of nationally recognized accrediting agencies and associations.

• The eligibility and certification process for institutions of higher education under Title IV of the HEA, together with recommendations for improvement in such process.

• The relationship between (1) accreditation of institutions of higher education and the certification and eligibility of such institutions, and (2) State licensing responsibilities with respect to such institutions.

• Any other advisory function relating to accreditation and institutional eligibility that the Secretary may prescribe.

Meeting Agenda: In addition to its review of accrediting agencies and State approval agencies for Secretarial recognition, the meeting agenda will include Committee discussions regarding the Committee's policy recommendations to advise the Secretary in preparation for the reauthorization of the Higher Education Act (HEA). Below is a list of agencies, including their current and requested scopes of recognition, scheduled for review during the June 25-26, 2015 meeting:

Petitions for Recognition Based on a Compliance Report

Accrediting Agencies

1. Accreditation Commission for Education in Nursing, Inc. (ACEN) (Current Scope: Accreditation of nursing education programs and schools, both postsecondary and higher degree, which offer a certificate, diploma, or a recognized professional degree including clinical doctorate, masters, baccalaureate, associate, diploma, and practical nursing programs in the United States and its territories, including those offered via distance education.)

2. American Optometric Association, Accreditation Council on Optometric Education (ACOE) (Current Scope: The accreditation in the United States of professional optometric degree programs, optometric technician (associate degree) programs, and optometric residency programs, and for the preaccreditation categories of Preliminary Approval for professional optometric degree programs and Candidacy Pending for optometric residency programs in Department of Veterans Affairs facilities.)

3. Association of Advanced Rabbinical and Talmudic Schools, Accreditation Commission (AARTS) (Current Scope: The accreditation and pre-accreditation (“Correspondent” and “Candidate”) within the United States of Advanced Rabbinical and Talmudic Schools.)

4. National Association of Schools of Dance, Commission on Accreditation (NASD) (Current Scope: The accreditation throughout the United States of freestanding institutions that offer dance and dance-related programs (both degree and non-degree-granting), including those offered via distance education.)

5. National Association of Schools of Music, Commission on Accreditation NASM) (Current Scope: The accreditation throughout the United States of freestanding institutions that offer music and music-related programs (both degree- and non-degree-granting), including those offered via distance education.)

6. National Association of Schools of Theatre, Commission on Accreditation (NAST) (Current Scope: The accreditation throughout the United States of freestanding institutions that offer theatre and theatre-related programs (both degree and non-degree-granting), including those offered via distance education.)

7. New England Association of Schools and Colleges, Commission on Institutions of Higher Education (NEA-CIHE) (Current Scope: The accreditation and pre-accreditation (“Candidacy status”) of institutions of higher education in Connecticut, Maine, Massachusetts, New Hampshire, Rhode Island, and Vermont that award bachelor's, master's, and/or doctoral degrees and associate degree-granting institutions in those states that include degrees in liberal arts or general studies among their offerings, including the accreditation of programs offered via distance education within these institutions).

8. North Central Association of Colleges and Schools, The Higher Learning Commission (NCA-HLC) (Current Scope: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including the tribal institutions and the accreditation of programs offered via distance education and correspondence education within these institutions. This recognition extends to the Institutional Actions Council jointly with the Board of Trustees of the Commission for decisions on cases for continued accreditation or reaffirmation, and continued candidacy, and to the Appeals Body jointly with the Board of Trustees of the Commission for decisions related to initial candidacy or accreditation or reaffirmation of accreditation.)

Request for an Expansion of Scope

1. American Psychological Association, Commission on Accreditation (APA) (Current Scope: The accreditation in the United States of doctoral programs in clinical, counseling, school and combined professional-scientific psychology; predoctoral internship programs in professional psychology; and postdoctoral residency programs in professional psychology.) (Requested scope: The accreditation in the United States of doctoral programs in clinical, counseling, school and combined professional-scientific psychology; doctoral internship programs in health service psychology; and postdoctoral residency programs in health service psychology.)

Petition for Approval of a State Agency for Vocational Education Based on a Compliance Report

1. Puerto Rico State Agency for the Approval of Public Postsecondary Vocational, Technical Institutions and Programs (PRHRDC) (Current Scope: The approval of public postsecondary, vocational-technical institutions.)

Submission of written comments regarding a specific accrediting agency or state approval agency under review: Written comments about the recognition of a specific accrediting or State agency must be received by May 1, 2015, in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency's recognition after review of a compliance report must relate to the issues raised in the compliance report and the criteria for recognition cited in the Secretary's letter that requested the report. Third parties having concerns about agencies regarding matters outside the scope of a compliance report should report those concerns directly to the Department to be reviewed as a complaint. Only material submitted by the deadline to the email address listed in this notice, and in accordance with these instructions, becomes part of the official record concerning agencies scheduled for review and are considered by the Department and NACIQI in their deliberations. Please do not send material directly to NACIQI members.

Submission of requests to make an oral comment regarding a specific accrediting agency or state approval agency under review: Oral comments about agencies seeking renewal of recognition must relate to the issues raised in the agency's compliance report and the criteria for recognition cited in the Secretary's letter that requested the report. There are two methods by which the public may seek to make a third-party oral comment of three minutes concerning one of the agencies scheduled for review at the June 25-26, 2015 meeting.

Method One: Submit a request by email to the ThirdPartyComments@ed.gov mailbox. Please do not send material directly to NACIQI members. Requests must be received by May 1, 2015, and include the subject line “Oral Comment Request: (agency name).” The email must include the name(s), title, organization/affiliation, mailing address, email address, telephone number, of the person(s) requesting to speak, and a brief summary (not to exceed one page) of the principal points to be made during the oral presentation. All individuals submitting an advance request in accordance with this notice will be afforded an opportunity to speak.

Method Two: Register at the meeting location on June 25, 2015, to make an oral comment during NACIQI's deliberations concerning a particular agency or institution scheduled for review. The requestor must provide his or her name, title, organization/affiliation, mailing address, email address, and telephone number. A total of up to fifteen minutes during each agency review will be allotted for oral commenters who register on June 25, 2015. Individuals will be selected on a first-come, first-served basis. If selected, each commenter may not exceed three minutes.

The oral comments made will become part of the official record and will be considered by the Department and NACIQI in their deliberations. No individual in attendance or making oral presentations may distribute written materials at the meeting.

Access to Records of the Meeting: The Department will post the official report of the meeting on the NACIQI Web site 90 days after the meeting. Pursuant to the FACA, the public may also inspect the materials at 1990 K Street NW., Washington, DC, by emailing aslrecordsmanager@ed.gov or by calling (202) 219-7067 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department. Delegation of Authority: The Secretary of Education has delegated authority to Jamienne S. Studley, Deputy Under Secretary, to perform the functions and duties of the Assistant Secretary for Postsecondary Education.

Authority: 20 U.S.C. 1011c.

Jamienne S. Studley,
Deputy Under Secretary.

[FR Doc. 2015-07076 Filed 3-26-15; 8:45 am]

BILLING CODE 4000-01-P